FEDERAL RESERVE SYSTEM

Proposed Agency Information Collection Activities; Comment Request

AGENCY: Board of Governors of the Federal Reserve System

SUMMARY: Background.

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for comment on information collection proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before March 27, 2006.

ADDRESSES: You may submit comments, identified by FR 2502q, FR Y-8, FR 2886b, FR 2050, or FR 2415 by any of the following methods:

Agency Web Site: http://www.federalreserve.gov. Follow the instructions for submitting comments at http://www.federalreserve.gov/generalinfo/foia/ProposedRegs.cfm.

Federal eRulemaking Portal: http://www.regulations.gov. Follow the instructions for submitting comments.

E-mail: regs.comments@federalreserve.gov. Include docket number in the subject line of the message.

FAX: 202/452-3819 or 202/452-3102.

Mail: Jennifer J. Johnson, Secretary, Board of Governors of the Federal Reserve System, 20th Street and Constitution Avenue, NW., Washington, DC 20551.

All public comments are available from the Board's Web site at http://www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9 a.m. and 5 p.m. on weekdays.

FOR FURTHER INFORMATION CONTACT: A copy of the proposed form and instructions, the Paperwork Reduction Act Submission (OMB 83-I), supporting statement, and other documents that will be placed into OMB's public docket files once approved may be requested from the agency clearance officer, whose name appears below.

Michelle Long, Federal Reserve Board Clearance Officer (202/452-3829), Division of Research and Statistics, Board of Governors of the Federal Reserve System, Washington, DC 20551. Telecommunications Device for the Deaf (TDD) users may contact (202/263-4869), Board of Governors of the Federal Reserve System, Washington, DC 20551.

Proposal to approve under OMB delegated authority the extension for three years, with revision, of the following reports:

1. Report title: Quarterly Report of Assets and Liabilities of Large Foreign Offices of U.S. Banks

Agency form number: FR 2502q

OMB control number: 7100-0079

Frequency: Quarterly

Reporters: Large foreign branches and banking subsidiaries of U.S. depository institutions

Annual reporting hours: 826 hours

Estimated average hours per response: 3.5 hours

Number of respondents: 59

General description of report: This information collection is required (12 U.S.C. §§ 248(a) (2), 353 et seq., 461, 602, and 625) and is given confidential treatment (5 U.S.C. § 552(b) (4)).

Abstract: This reporting form collects data quarterly on the geographic distribution of the assets and liabilities of major foreign branches and subsidiaries of U.S. commercial banks and of Edge and agreement corporations. Data from this reporting form comprise a piece of the flow of funds data that are compiled by the Federal Reserve.

Current action: The Federal Reserve proposes the following revisions: (1) Discontinuing Schedule A as a result of the elimination of M3; (2) discontinuing Memorandum item 3a; (3) revising the instructions for data to be submitted for the unallocated data items; (4) reducing the reporting panel to require offices located only in the Caribbean and the United Kingdom to file the FR 2502q; and (5) conforming the names of several countries and one region to the country list compiled by the U.S. Treasury.

2. Report title: Consolidated Report of Condition and Income for Edge and Agreement Corporations

Agency form number: FR 2886b

OMB control number: 7100-0086

Frequency: Quarterly

Reporters: Edge and agreement corporations

Annual reporting hours: 3,055

Estimated average hours per response: 14.7 banking corporations, 8.5 investment corporations

Number of respondents: 19 banking corporations, 57 investment corporations

General description of report: This information collection is mandatory (12 U.S.C. §§ 602 and 625). For Edge corporations engaged in banking, information collection on schedules RC-M and RC-V are held confidential pursuant to section (b)(4) of the Freedom of Information Act (5 U.S.C. 552(b)(4)). For investment Edge corporations, only information collected on schedule RC-M are given confidential treatement pursuant to section (b)(4) of the Freedom of Information Act (5 U.S.C. 552(b)(4)).

Abstract: This reporting form comprises a balance sheet, income statement, two schedules reconciling changes in capital and reserve accounts, and ten supporting schedules, and it parallels the commercial bank Consolidated Reports of Condition and Income (Call Report)(FFIEC 031; OMB No. 7100-0036). The Federal Reserve uses the data collected on the FR 2886b to supervise Edge corporations, identify present and potential problems, and monitor and develop a better understanding of activities within the industry.

Current action: The Federal Reserve proposes to delete three items related to bankers acceptances, consistent with proposed changes to the Call Report and to make minor clarifications to the reporting form and instructions.

Proposal to approve under OMB delegated authority the extension for three years, without revision, of the following report:

1. Report title: Bank Holding Company Report of Insured Depository Institutions' Section 23A Transactions with Affiliates

Agency form number: FR Y-8

OMB control number: 7100-0126

Frequency: Quarterly

Reporters: All top-tier bank holding companies (BHCs), including financial holding companies (FHCs), and foreign banking organizations (FBOs) that directly own U.S. subsidiary banks.

Annual reporting hours: 53,419 hours

Estimated average hours per response: Institutions with covered transactions, 7.8 hours; institutions without covered transactions, 1 hour

Number of respondents: 6,310

General description of report: This information collection is mandatory (section 5(c)) of the Bank Holding Company Act (12 U.S.C. 1844(c)) and section 225.5(b) of Regulation Y (12 CFR 225.5(b)) and is given confidential treatment (5 U.S.C 552(b)(4) and (8)).

Abstract: This reporting form collects information on transactions between an insured depository institution and its affiliates that are subject to section 23A of the Federal Reserve Act. The primary purpose of the data is to enhance the Federal Reserve's ability to monitor bank exposures to affiliates and to ensure banks' compliance with section 23A of the Federal Reserve Act. Section 23A of the Federal Reserve Act is one of the most important statutes on limiting exposures to individual institutions and protecting against the expansion of the federal safety net.

Proposal to approve under OMB delegated authority the discontinuance of the following reports:

1. Report title: Weekly Report of Eurodollar Liabilities Held by Selected U.S. Addressees at Foreign Offices of U.S. Banks

Agency form number: FR 2050

OMB Control number: 7100-0068

Effective Date: Respondents will submit their final data for the reporting week ending March 6, 2006.

Frequency: Weekly

Reporters: Foreign branches and banking subsidiaries of U.S. depository institutions.

Annual reporting hours: 1,872 hours

Estimated average hours per response: 1.0 hour

Number of respondents: 36

General description of report: This information collection is voluntary (12 U.S.C. §§ 248(a)(2), 353 et seq., 461, 602, and 625). Individual respondent's data are confidential under section (b)(4) of the Freedom of Information Act (5 U.S.C. 552(b)(4)).

Abstract: The report collects data on Eurodollar deposits payable to nonbank U.S. addressees from foreign branches and subsidiaries of U.S. commercial banks and Edge and agreement corporations. The data are used for the construction of the Eurodollar component of the monetary aggregates and for analysis of banks' liability management practices.

Current Actions: The Board of Governors of the Federal Reserve System announced on November 10, 2005, that it would cease publication of the M3 monetary aggregate on March 23, 2006. M3 does not appear to contain any additional information about economic activity that is not already embodied in M2. Moreover, the role of M3 in the monetary policy process has greatly diminished over time. The costs to the Federal Reserve and the private sector of collecting data and publishing M3 now outweigh the benefits. The discontinuation of this report will reduce private sector burden by 1,872 hours per year.

2. Report title: Report of Repurchase Agreements (RPs) on U.S. Government and Federal Agency Securities with Specified Holders

Agency form number: FR 2415

OMB Control number: 7100-0074

Effective Date: Weekly reporters will submit their final FR 2415 for the report week ending March 6, 2006. Quarterly reporters will submit their final data for the week containing the last calendar day of December 2005. Since annual reporters submit data for the week containing June 30, they will no longer file the FR 2415.

Frequency: Weekly, quarterly, or annually

Reporters: U.S chartered commercial banks, U.S branches and agencies of foreign banks, thrift institutions, and credit unions

Annual reporting hours: 2,615 hours

Estimated average hours per response: 30 minutes

Number of respondents: 84 weekly, 128 quarterly, and 350 annually Small businesses are not affected.

General description of report: This information collection is voluntary (12 U.S.C. 248(a)(2) and 3105(b)) and is given confidential treatment (5 U.S.C. 552(b)(4)).

Abstract: This voluntary report collects one data item, repurchase agreements (RPs), in denominations of $100,000 or more, in immediately-available funds, on U.S. government and federal agency securities, transacted with specified holders. Depository institutions file the FR 2415 report weekly, quarterly or annually depending on the volume of their RPs. In general, the larger the respondent's level of RPs, the more frequent is its reporting. The weekly panel reports daily data once each week; the quarterly panel files daily data for the four one-week reporting periods that contain quarter-end dates; the annual panel reports daily data only for the week encompassing June 30 each year. The primary purpose of the data is for construction of the RP component of the M3 monetary aggregate and for analysis of depository institutions' funding practices.

Current Actions: The Board of Governors of the Federal Reserve System announced on November 10, 2005, that it would cease publication of the M3 monetary aggregate on March 23, 2006. M3 does not appear to contain any additional information about economic activity that is not already embodied in M2. Moreover, the role of M3 in the monetary policy process has greatly diminished over time. The costs to the Federal Reserve and the private sector of collecting data and publishing M3 now outweigh the benefits. The discontinuation of this report will reduce private sector burden by 2,615 hours per year.

Board of Governors of the Federal Reserve System, January 19, 2006.
Jennifer J. Johnson,
Secretary of the Board.

[FR Doc. E6-804 Filed 1-23-06; 8:45 am]

BILLING CODE 6210-01-S